INTERNATIONAL TRADE COMMISSION

[Investigation No. 731-TA-1143 (Second Review)]

Small Diameter Graphite Electrodes From China; Determination

On the basis of the record ¹ developed in the subject five-year second review, the United States International Trade Commission (“Commission”) determines, pursuant to the Tariff Act of 1930 (“the Act”), that revocation of the antidumping duty order on small diameter graphite electrodes from China would be likely to lead to continuation or recurrence of material injury to an industry in the United States within a reasonably foreseeable time.

¹ The record is defined in sec. 207.2(f) of the Commission's Rules of Practice and Procedure (19 CFR 207.2(f)).

Background

The Commission instituted this review on May 1, 2019 (84 FR 18580) and determined on August 5, 2019 that it would conduct a full review (84 FR 43615, August 21, 2019). Notice of the scheduling of the Commission's review and of a public hearing to be held in connection therewith was given by posting copies of the notice in the Office of the Secretary, U.S. International Trade Commission, Washington, DC, and by publishing the notice in the Federal Register on September 23, 2019 (84 FR 51619). Subsequently, the Commission cancelled its previously-scheduled hearing following a request on behalf of the domestic interested parties, the only parties to enter an appearance in this review (85 FR 4339, January 24, 2020).

The Commission made this determination pursuant to section 751(c) of the Act (19 U.S.C. 1675(c)). It completed and filed its determination in this review on March 23, 2020. The views of the Commission are contained in USITC Publication 5035 (March 2020), entitled Small Diameter Graphite Electrodes from China: Investigation No. 731-TA-1143 (Second Review).

By order of the Commission.
Issued: March 23, 2020.
Lisa Barton,
Secretary to the Commission.

[FR Doc. 2020-06375 Filed 3-26-20; 8:45 am]

BILLING CODE 7020-02-P